DEPARTMENT OF THE INTERIOR

Bureau of Ocean Energy Management (BOEM)

Final Programmatic Environmental Impact Statement (PEIS) for the Proposed Final Five-Year Outer Continental Shelf (OCS) Oil and Gas Leasing Program for 2012-2017

AGENCY: Bureau of Ocean Energy Management, Interior.

ACTION: Notice of availability.

SUMMARY: Pursuant to the National Environmental Policy Act, BOEM announces the availability of the OCS Oil and Gas Leasing Program 2012-2017 Final PEIS prepared by BOEM to support the Proposed Final 5-Year OCS Oil and Gas Leasing Program for 2012-2017.

FOR FURTHER INFORMATION CONTACT: Bureau of Ocean Energy Management, Headquarters, 381 Elden Street, Herndon, VA 20170; Attention: Mr. James F. Bennett, Chief of the Division of Environmental Assessment, telephone: (703) 787-1660.

SUPPLEMENTARY INFORMATION: This Final PEIS assesses the potential impacts of, and the scheduling for, proposed lease sales during the years 2012 to 2017 in six planning areas on the OCS. These areas are the Western, Central and Eastern Gulf of Mexico; Cook Inlet; the Beaufort Sea; and the Chukchi Sea. Federal regulations (40 CFR 1502.4(b)) recommend analyzing effects of broad programs within a single programmatic EIS.

EIS Availability: Persons interested in reviewing the Final PEIS for the Proposed Final 5-Year OCS Oil and Gas Leasing Program for 2012-2017, OCS EIS/EA BOEM 2012-030, can locate it on the Internet at www.boem.gov/5-year/2012-2017 or you may contact Mr. James F. Bennett at the address listed above to request a hard copy or a CD/ROM version. Please specify if you wish a CD or paper copy. If neither is specified, a CD containing the Final PEIS will be forwarded.

Library Availability: The Final PEIS will also be available for review at libraries in states near the proposed lease sales. These libraries are listed at the BOEM Web site at www.boem.gov/5-Year/2012-2017/libraries or a list of libraries can be provided by contacting the contact person listed above.

Dated: June 20, 2012.
Willie R. Taylor,
Director, Office of Environmental Policy and Compliance.

[FR Doc. 2012-16152 Filed 7-5-12; 8:45 am]

BILLING CODE 4310-MR-P